DEPARTMENT OF ENERGY

Federal Energy Regulatory Commission

[Docket No. RP03-162-000]

Trailblazer Pipeline Company; Notice of Tariff Filing

December 4, 2002.

Take notice that on November 27, 2002, Trailblazer Pipeline Company (Trailblazer) tendered for filing to become part of its FERC Gas Tariff, Third Revised Volume No. 1, the tariff sheets listed on Appendix A to the filing, to be effective January 1, 2003.

Trailblazer states that the purpose of this filing is to fulfill its obligation under Article III of the Docket No. RP97-408 rate case settlement in which Trailblazer must file a general rate proceeding to be effective no later than January 1, 2003. In the case of a rate decrease, as proposed herein, the filing was to occur no later than December 1, 2002. In addition, the filing also includes proposed modifications to the terms and conditions of Trailblazer's services in the following areas: capacity award procedures and award evaluation procedures (including capacity release); credit; right of first refusal, balancing charges; and minor administrative changes.

Trailblazer states that copies of the filing are being mailed to its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Magalie R. Salas,
Secretary.

[FR Doc. 02-31275 Filed 12-11-02; 8:45 am]

BILLING CODE 6717-01-P